DEPARTMENT OF AGRICULTURE

Forest Service

South Mt. Baker-Snoqualmie Resource Advisory Committee

AGENCY: Forest Service, USDA.

ACTION: Notice of meeting.

SUMMARY: The South Mt. Baker-Snoqualmie (MBS) Resource Advisory Committee (RAC) will meet in North Bend, Washington on May 11, 2011. The committee is meeting to review and rank 2012 Title II RAC proposals.

DATES: The meeting will be held on Wednesday, May 11, 2011, from 8 a.m. to 4 p.m.

ADDRESSES: The meeting will be held at the Snoqualmie Ranger District office located at 902 SE North Bend Way, Washington, 98045-9545.

FOR FURTHER INFORMATION CONTACT: Jim Franzel, District Ranger, Snoqualmie Ranger District, phone (425) 888-1421, e-mail jfranzel@fs.fed.us.

Individuals who use telecommunication devices for the deaf (TDD) may call the Federal Information Relay Service (FIRS) at 1-800-877-8339 between 8 a.m. and 8 p.m., Eastern Standard Time, Monday through Friday.

SUPPLEMENTARY INFORMATION: The meeting is open to the public. More information will be posted on the Mt. Baker-Snoqualmie National Forest Web site at http://www.fs.fed.us/r6/mbs/projects/rac.shtml.

Comments may be sent via e-mail to jfranzel@fs.fed.us or via facsimile to (425) 888-1910. All comments, including names and addresses when provided, are placed in the record and are available for public inspection and copying. The public may inspect comments received at the Snoqualmie Ranger District office at 902 SE North Bend Way, during regular office hours (Monday through Friday 8 a.m.-4:30 p.m.).

Dated: March 23, 2011.
Y. Robert Iwamoto,
Forest Supervisor.

[FR Doc. 2011-7425 Filed 3-29-11; 8:45 am]

BILLING CODE 3410-11-P